DEPARTMENT OF ENERGY

Federal Energy Regulatory Commission

[Docket No. RP01-15-001]

PG&E Gas Transmission, Northwest Corporation; Notice of Compliance Filing

March 2, 2001.

Take notice that on November 27, 2000, PG&E Gas Transmission, Northwest Corporation (PG&E GTN) submitted its filing to comply with the Commission's October 27, 2000 order in Docket Nos. RM96-1-014, et al.

Pursuant to Commission directive, PG&E GTN explains why it will lose transportation revenue if it does not assess transportation and fuel reimbursement charges when certain nets or trades if imbalances occur.

Any person desiring to protest said filing should file a protest with the Federal Energy Regulatory Commission, 888 First Street, NE., Washington, DC 20426, in accordance with section 385.211 of the Commission's Rules and Regulations. All such protests must be filed on or before March 9, 2001. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 01-5638 Filed 3-7-01; 8:45 am]

BILLING CODE 6717-01-M